DEPARTMENT OF ENERGY

Federal Energy Regulatory Commission

[Docket No. RP05-368-000]

Gulfstream Natural Gas System, L.L.C.; Errata Notice

June 14, 2005.

On June 10, 2005, the Commission issued a Notice of Filing in the above-referenced proceeding and inadvertently omitted the comment date. By this Errata Notice the Commission states that the comment date for the June 10 Notice of Filing is: June 17, 2005.

Magalie R. Salas,
Secretary.

[FR Doc. E5-3186 Filed 6-20-05; 8:45 am]

BILLING CODE 6717-01-P